DEPARTMENT OF DEFENSE

Office of the Secretary

[Transmittal No. 25-26]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-26, Policy Justification, and Sensitivity of Technology.

Dated: January 29, 2026.
Stephanie J. Bost,
Alternate OSD Federal Register Liaison Officer, Department of Defense.

BILLING CODE 6001-FR-P

BILLING CODE 6001-FR-C

Transmittal No. 25-26

Notice of Proposed Issuance of Letter of Offer Pursuant to Section 36(b)(1) of the Arms Export Control Act, as amended

(i) Prospective Purchaser: Government of Israel

(ii) Total Estimated Value:

Major Defense Equipment * | $557.5 million
Other | $118.2 million
TOTAL | $675.7 million

Funding Source: Foreign Military Financing

(iii) Description and Quantity or Quantities of Articles or Services under Consideration for Purchase:

Major Defense Equipment (MDE):

Two hundred one (201) MK 83 MOD 4/MOD 5 General Purpose 1,000-pound bomb bodies

Four thousand seven hundred ninety-nine (4,799) BLU-110A/B General Purpose 1,000-pound bomb bodies

One thousand five hundred (1,500) KMU-559C/B Joint Direct Attack Munition (JDAM) guidance kits for the MK 83 bomb body

Three thousand five hundred (3,500) KMU-559J/B JDAM guidance kits for the MK 83 bomb body

Non-Major Defense Equipment:

The following non-MDE items will also be included: United States (U.S.) Government and contractor engineering, logistics, and technical support services; and other related elements of logistics and program support.

(iv) Military Department: Navy (IS-P-AVH), Air Force (IS-D-AFK)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: February 28, 2025

* as defined in Section 47(6) of the Arms Export Control Act.

POLICY JUSTIFICATION

Israel—Munitions, Guidance Kits, and Munitions Support

The Government of Israel has requested to buy two hundred one (201) MK 83 MOD 4/MOD 5 General Purpose 1,000-pound bomb bodies; four thousand seven hundred ninety-nine (4,799) BLU-110A/B General Purpose 1,000-pound bomb bodies; one thousand five hundred (1,500) KMU-559C/B Joint Direct Attack Munition (JDAM) guidance kits for the MK 83 bomb body; three thousand five hundred (3,500) KMU-559J/B JDAM guidance kits for the MK 83 bomb body. The following non-MDE items will also be included: U.S. Government and contractor engineering, logistics, and technical support services; and other related elements of logistics and program support. The estimated total cost is $675.7 million.

The Secretary of State has determined and provided detailed justification that an emergency exists that requires the immediate sale to the Government of Israel of the above defense articles (and defense services) in the national security interests of the U.S., thereby waiving the Congressional review requirements under Section 36(b) of the Arms Export Control Act, as amended.

The U.S. is committed to the security of Israel, and it is vital to U.S. national interests to assist Israel to develop and maintain a strong and ready self-defense capability. This proposed sale is consistent with those objectives.

The proposed sale improves Israel's capability to meet current and future threats, strengthen its homeland defense, and serves as a deterrent to regional threats. Israel already has these weapons in its inventory and will have no difficulty absorbing this equipment into its armed forces.

The proposed sale of this equipment and support will not alter the basic military balance in the region.

The principal contractors will be Repkon USA, located in Tampa, FL; and The Boeing Company, located in St. Charles, MO. At this time, the U.S. Government is not aware of any offset agreement proposed in connection with this potential sale. Any offset agreement will be defined in negotiations between the purchaser and the contractor.

Implementation of this proposed sale will not require the assignment of any additional U.S. Government or contractor representatives to Israel.

There will be no adverse impact on U.S. defense readiness as a result of this proposed sale.

Transmittal No. 25-26

Notice of Proposed Issuance of Letter of Offer Pursuant to Section 36(b)(1) of the Arms Export Control Act

Annex

Item No. vii

(vii) Sensitivity of Technology:

1. The MK 83 MOD 4 and MK 83 MOD 5 are general purpose 1,000-pound bombs used by the United States Navy, Marine Corps, and Air Force, as well as foreign partners. The MK 83 series is used for unguided delivery in either low or high drag mode, or guided delivery when a guidance kit is attached. It is designed for soft, fragment-sensitive targets and is not intended for hard targets or penetrations.

2. The BLU-110 A/B is a general purpose 1,000-pound bomb used by the United States Navy, Marine Corps, and Air Force, as well as foreign partners. The BLU-110 series is a 1,000-pound warhead used for unguided delivery in either low or high drag mode, or guided delivery when a guidance kit is attached. It is designed for soft, fragment-sensitive targets and is not intended for hard targets or penetrations.

3. KMU-559 Joint Direct-Attack Munitions (JDAM) tail kits contain an Inertial Navigation System (INS)/Global Positioning System (GPS) (using either Selective Availability Anti-Spoofing Module (SAASM) or M-code) guidance capability that converts unguided free-fall bombs into accurate, adverse weather “smart” munitions. The KMU-559 tail kit is paired with a MK 83 class warhead to build a GBU-32 JDAM. The JDAM weapon can be delivered from modest standoff ranges at high or low altitudes against a variety of land and surface targets during the day or night. The JDAM can receive target coordinates via preplanned mission data from the delivery aircraft, by onboard aircraft sensors (e.g., forward-looking infrared, radar, etc.) during captive carry, or from a third-party source via manual or automated aircrew cockpit entry.

4. The highest level of classification of defense articles, components, and services included in this potential sale is UNCLASSIFIED.

5. If a technologically advanced adversary were to obtain knowledge of the specific hardware and software elements, the information could be used to develop countermeasures that might reduce system effectiveness or be used in the development of a system with similar or advanced capabilities.

6. A determination has been made that Israel can provide substantially the same degree of protection for the sensitive technology being released as the U.S. Government. This sale is necessary in furtherance of the U.S. foreign policy and national security objectives outlined in the Policy Justification.

7. All defense articles and services listed in this transmittal have been authorized for release and export to the Government of Israel.

[FR Doc. 2026-02079 Filed 1-30-26; 8:45 am]

BILLING CODE 6001-FR-P